DEPARTMENT OF ENERGY

Federal Energy Regulatory Commission

[Docket No. EC05-22-000, et al.]

Mirant Oregon, et al.; Electric Rate and Corporate Filings

December 21, 2004.

The following filings have been made with the Commission. The filings are listed in ascending order within each docket classification.

1. Mirant Oregon, Avista

[Docket Nos. EC05-22-000, ER99-1435-007, ER02-1331-005]

Take notice that on December 17, 2004, Mirant Oregon, LLC (Mirant Oregon) and Avista Corporation d/b/a/ Avista Utilities (Avista Utilities (collectively, Applicants) filed with the Commission an supplemental information regarding it application filed November 23, 2004, seeking Commission authorization with respect to the disposition of jurisdictional facilities associated with the transfer to Avista Utilities of Mirant Oregon's 50 percent ownership interest in Coyote Springs 2.

Comment Date: 5 p.m. Eastern Time on January 3, 2005.

2. FortisOntario, Inc., FortisUS Energy Corporation

[Docket Nos. ER03-775-003, ER00-136-002]

Take notice that on December 15, 2004, FortisOntario, Inc. and FortisUS Energy Corporation (collectively, the Fortis Entities) submitted a filing in response to the Commission's November 24, 2004 deficiency letter in Docket Nos. ER03-775-002 and ER00-136-001.

The Fortis Entities state that copies of the filing were served on parties on the official service list in the above-captioned proceedings.

Comment Date: 5 p.m. Eastern Time on January 5, 2005.

3. Commonwealth Edison Company

[Docket No. ER04-718-012]

Take notice that on December 15, 2004, Commonwealth Edison Company (Edison) submitted a compliance filing pursuant to the Commission's Order issued October 28, 2004, 109 FERC ¶ 61,094 (2004).

Comment Date: 5 p.m. Eastern Time on January 5, 2005.

4. NewCorp Resources Electric Cooperative, Inc.

[Docket No. ER04-1149-002]

Take notice that on December 14, 2004, NewCorp Resources Electric Cooperative, Inc. (NewCorp) submitted a refund report in compliance with the Commission's order issued October 29, 2004 in Docket Nos. ER04-1149-000 and ER04-1149-001, 109 FERC ¶ 61,103.

Comment Date: 5 p.m. Eastern Time on January 4, 2005.

5. Midwest Independent Transmission System, Ameren Services Co.

[Docket Nos. ER05-6-003, EL04-135-005, EL02-111-022, EL03-212-019]

Take notice that on December 16, 2004, Duke Energy North America, LLC (Duke) Submitted a hubbing adjustment for the Duke Energy Vermillion, LLC and Duke Energy Washington, LLC control area.

Duke has requested that certain portions of the filing be given confidential treatment pursuant to 18 CFR 388.12. Duke states that copies of the public version of the filing were served upon the official service list in the above-captioned proceeding.

Comment Date: 5 p.m. Eastern Time on January 7, 2005.

6. Midwest Independent Transmission System Operator, Inc.; Midwest Independent Transmission System Operator, Inc.; Midwest Independent Transmission System Operator, Inc.; Ameren Services Co., et al.

[Docket No. ER05-6-009, Docket No. EL04-135-011, Docket No. EL02-111-028, Docket No. EL03-212-025]

Take notice that on December 17, 2004, the Midwest Independent Transmission System Operator, Inc. (Midwest ISO) and Midwest ISO Transmission Owners (collectively Applicants) jointly submitted for filing revisions to proposed Schedule 22 of the Midwest ISO Open Access Transmission Tariff submitted on November 24, 2004 in compliance with the Commission's November 18, 2004 order in Docket Nos. ER05-6, EL04-135, EL02-111, and EL03-212, Midwest Indep. Transmission Sys. Operator, Inc., 109 FERC ¶ 61,168 (2004).

Applicants state that copies of the filing were served on parties on the official service list in the above-captioned proceeding.

Comment Date: 5 p.m. Eastern Time on January 7, 2005.

7. Sirius Investment Management, Inc.

[Docket No. ER05-71-001]

Take notice that on December 15, 2004, Sirius Investment Management, Inc. (Sirius) tendered for filing proposed changes in its FERC Electric Service Tariff, Volume No. 1 in response to the Commission's October 26, 2004 deficiency letter.

Comment Date: 5 p.m. Eastern Time on January 5, 2005.

8. Klondike Wind Power II LLC

[Docket No. ER05-332-000]

Take notice that on December 14, 2004, Klondike Wind Power II LLC (Klondike II) tendered for filing an application for authorization to sell energy, capacity and ancillary services at market-based rates. Klondike II requests waiver of certain Commission regulations and the granting of certain blanket approvals.

Comment Date: 5 p.m. Eastern Time on January 4, 2005.

9. Nevada Power Company

[Docket No. ER05-334-000]

Take notice that on December 15, 2004, Nevada Power Company tendered for filing an executed Service Agreement for Network Integration Transmission Service Retail Access Transmission Service (Transmission Service Agreement) between Nevada Power Company; Public Service Company of New Mexico, Scheduling Coordinator; the Colorado River Commission of Nevada, Aggregator for End Use Customer; and the Southern Nevada Water Authority, End-Use Customer and an executed Network Operating Agreement between Nevada Power Company and Public Service Company of New Mexico. Nevada Power Company requests an effective date of February 1, 2005.

Comment Date: 5 p.m. Eastern Time on January 15, 2005.

10. Southern California Edison Company

[Docket No. ER05-335-000]

Take notice that on December 15, 2004, Southern California Edison Company (SCE) submitted for filing an Interconnection Facilities Agreement (Interconnection Agreement), Service Agreement No. 131 under SCE's Wholesale Distribution Access Tariff (WDAT), FERC Electric Tariff, First Revised Volume No. 5, and an associated Service Agreement for Wholesale Distribution Service (WDAT Service Agreement), Service Agreement No. 132 under the WDAT, between SCE and the March Joint Powers Utility Authority (March JPUA).

SCE states that copies of the filing were served upon the Public Utilities Commission of the State of California and March JPUA.

Comment Date: 5 p.m. Eastern Time on January 5, 2005.

11. Florida Power & Light Company

[Docket No. ER05-336-000]

Take notice that on December 15, 2004, Florida Power & Light Company (FLP) submitted Service Agreement No. 232 for the provision of long-term transmission service to the Georgia Transmission Corporation as well as a Notice of Cancellation for Service Agreement No. 219 among the same parties.

FLP states that copies of the filing were served upon the Georgia Transmission Corporation and the Public Service Commission of the State of Florida.

Comment Date: 5 p.m. Eastern Time on January 5, 2005.

12. Central Hudson Gas & Electric Corporation

[Docket No. ER05-337-000]

Take notice that on December 15, 2004 Central Hudson Gas & Electric Corporation (Central Hudson) tendered for filing proposed changes in its Rate Schedule FERC No. 202 which sets forth the terms and changes for substation service provided by Central Hudson to Consolidated Edison Company of New York, Inc.

Central Hudson requests waiver on the notice requirements set forth in 18 CFR 35.11 of the regulations to permit the charges to become effective January 1, 2004 as agreed to by the parties.

Central Hudson states that a copy of its filing was served on Consolidated Edison Company of New York, Inc. and the State of New York Public Service Commission.

Comment Date: 5 p.m. Eastern Standard Time on January 5, 2005.

13. American Electric Power Service Corporation

[Docket No. ER05-338-000]

Take notice that on December 15, 2005, American Electric Power Service Corporation (AEPSC), submitted for filing Notices of Cancellation for a Network Operating Agreement and a Network Service Agreement between Northeast Texas Electric Cooperative, Inc. (NTEC) and Central and South West Services, Inc., designated Agent for Central Power and Light Company, Public Service Company of Oklahoma, Southwestern Electric Power Company, and West Texas Utilities Company. AEPSC requests an effective date of December 31, 2004 for the cancellations.

AEPSC states it has served copies of the filing on NTEC and the Public Utility Commission of Texas, the Oklahoma Corporation Commission, the Louisiana Public Service Commission and the Arkansas Public Service Commission.

Comment Date: 5 p.m. Eastern Time on January 5, 2005.

14. PacifiCorp

[Docket No. ER05-339-000]

Take notice that on December 15, 2004, PacifiCorp tendered for filing a Notice of Cancellation of PacifiCorp's Rate Schedule FERC No. 264 to be effective December 31, 2004.

PacifiCorp states that copies of this filing were supplied to the Public Utility Commission of Oregon, the Washington Utilities and Transportation Commission, Avista Corp, Idaho Power Company, and NorthWestern Energy.

Comment Date: 5 p.m. Eastern Time on January 5, 2005.

15. PacifiCorp

[Docket No. ER05-340-000]

Take notice that on December 15, 2004, PacifiCorp tendered for filing a Notice of Cancellation of PacifiCorp's Rate Schedule FERC No. 255 to be effective December 31, 2004.

PacifiCorp states that copies of this filing were supplied to the Public Utility Commission of Oregon, the Washington Utilities and Transportation Commission, Pacific Gas & Electric Company and Southern California Edison Company.

Comment Date: 5 p.m. Eastern Time on January 5, 2005.

16. CMS Generation Michigan Power L.L.C.

[Docket No. ER05-341-000]

Take notice that on December 15, 2004, CMS Generation Michigan Power L.L.C. (CMSGMP) tendered for filing a rate schedule pursuant to which it will provide Reactive Power and Voltage Control from Generation Sources to Michigan Electric Transmission Co., L.L.C. (METC) or Midwest Independent System Operator, Inc. (MISO). CMSGMP requests an effective date of January 1, 2005.

CMSGMP states that a copy of the filing was served upon METC, MISO and the Michigan Public Service Commission.

Comment Date: 5 p.m. Eastern Time on January 5, 2005.

17. American Electric Power Service Corporation

[Docket No. ER05-342-000]

Take notice that on December 15, 2004, American Electric Power Service Corporation (AEPSC) filed with the Commission a Notices of Cancellation of a Network Operating Agreement and a Network Service Agreement between East Texas Electric Cooperative, Inc. (ETEC) and Central and South West Services, Inc., designated Agent for Central Power and Light Company, Public Service Company of Oklahoma, Southwestern Electric Power Company, and West Texas Utilities Company. AEPSC seeks an effective date of December 31, 2004 for the cancellations.

AEPSC states it has served copies of this filing on ETEC, the Public Utility Commission of Texas, the Oklahoma Corporation Commission, the Louisiana Public Service Commission and the Arkansas Public Service Commission.

Comment Date: 5 p.m. Eastern Time on January 5, 2005.

18. California Independent System Operator Corporation

[Docket No. ER05-346-000]

Take notice that on December 15, 2004, the California Independent System Operator Corporation (ISO) tendered for filing its Grid Management Charge (GMC) rate to recover its administrative and operating costs. The ISO is requesting and effective date of January 1, 2005.

The ISO states that this filing has been served on the Public Utilities Commission of California, the California Energy Commission, the California Electricity Oversight Board, and upon all parties with effective Scheduling Coordinator Service Agreements under the ISO Tariff.

Comment Date: 5 p.m. Eastern Time on January 5, 2005.

19. Rainbow Energy Marketing Corporation

[Docket No. ER94-1061-025]

Take notice that on December 15, 2004, Rainbow Energy Marketing Corporation (Rainbow) tendered for filing an amendment to its FERC Electric Tariff, Original Volume No. 1 to allow, among other things, Rainbow to: (1) Sell ancillary services at wholesale at market-based rates, (2) reassign transmission capacity in accordance with the conditions established by the Commission ; and (3) unilaterally modify the tariff. Rainbow states that the filing complies with the Commission's November 17, 2003, order in Docket No. EL01-118 which established six Market Behavior Rules to be included in each market-based rate tariff and also complies with Order No. 614.

Comment Date: 5 p.m. Eastern Time on January 5, 2005.

20. The Empire District Electric Company

[Docket No. ER99-1757-006]

Take notice that on December 15, 2004, The Empire District Electric Company (Empire District), pursuant to the Commission's deficiency letter order dated November 24, 2004, filed an amendment to the September 27, 2004 filing of Empire District's generation market power study.

Comment Date: 5 p.m. Eastern Time on January 5, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Magalie R. Salas,
Secretary.

[FR Doc. E4-3861 Filed 12-28-04; 8:45 am]

BILLING CODE 6717-01-P